DEPARTMENT OF THE INTERIOR

National Park Service

[NPS-WASO-OIA-31249; PIN00IO14.XI0000]

U.S. Nominations to the World Heritage List; 15-Day Notice of Opportunity for Public Comment

AGENCY: National Park Service, Interior.

ACTION: Notice.

SUMMARY: This notice requests public comment on the next potential U.S. nominations from the U.S. World Heritage Tentative List (“Tentative List”) to the United Nations Educational, Scientific and Cultural Organization (UNESCO) World Heritage List. The public may also make suggestions for future additions to the Tentative List. This notice complies with applicable World Heritage Program regulations.

DATES: Comments will be accepted on or before January 26, 2021.

ADDRESSES: You may submit comments by either of the following methods:

• Mail to: Jonathan Putnam, Office of International Affairs, National Park Service, 1849 C Street NW, Washington, DC 20240.

• Email to: jonathan_putnam@nps.gov. Phone: (202) 354-1809.

Comments will not be accepted in any way other than those specified above.

Information on the U.S. World Heritage program can be found at: https://www.nps.gov/subjects/internationalcooperation/worldheritage.htm.

To request a paper copy of the U.S Tentative List, please contact April Brooks, Office of International Affairs, National Park Service, 1849 C Street NW, Room 2415, Washington, DC 20240 (202) 354-1808, or Email: april_brooks@nps.gov.

FOR FURTHER INFORMATION CONTACT: Jonathan Putnam, (202) 354-1809.

For the World Heritage nomination format, see the World Heritage Centre website at: http://whc.unesco.org/en/nominations.

SUPPLEMENTARY INFORMATION:

Background

The World Heritage List is an international list of cultural and natural properties nominated by the signatories to the World Heritage Convention (1972), an international treaty for the preservation of natural and cultural heritage sites of global significance. U.S. participation and the roles of the Department of the Interior and the National Park Service are authorized by Title IV of the Historic Preservation Act Amendments of 1980 and conducted in accordance with 36 CFR part 73—World Heritage Convention. The National Park Service serves as the principal technical agency for the U.S. Government to the Convention.

A Tentative List is a national list of natural and cultural properties appearing to meet the World Heritage Committee eligibility criteria for nomination to the World Heritage List. It is a list of candidate sites which a country may consider for nomination within a given time period, but does not guarantee future nomination. The World Heritage Committee's Operational Guidelines ask participating nations to provide Tentative Lists, which aid in evaluating properties for the World Heritage List on a comparative international basis and help the Committee to schedule its work over the long term. A country cannot nominate a property unless it has been on its Tentative List for a minimum of a year. Countries also are limited at this time to nominating no more than one site in any given year.

Neither inclusion in the Tentative List nor inscription as a World Heritage Site imposes legal restrictions on owners or neighbors of sites, nor does it give the United Nations any management authority or ownership rights in U.S. World Heritage Sites, which continue to be subject to U.S. laws.

Current U.S. World Heritage Tentative List

The current U.S. World Heritage Tentative List includes the following properties:

Cultural Sites

Civil Rights Movement Sites, Alabama [other properties would be added for a complete nomination]

—Dexter Avenue King Memorial Baptist Church, Montgomery

—Bethel Baptist Church, Birmingham

—16th Street Baptist Church, Birmingham

Dayton Aviation Sites, Ohio

—Dayton Aviation Heritage National Historical Park

Hopewell Ceremonial Earthworks, Ohio

—Fort Ancient State Memorial, Warren County

—Hopewell Culture National Historical Park, near Chillicothe

—Newark Earthworks State Historic Site, Newark and Heath

Jefferson (Thomas) Buildings, Virginia (Proposed Jointly as an Extension to the World Heritage Listing of Monticello and the University of Virginia Historic District)

—Poplar Forest, Bedford County

—Virginia State Capitol, Richmond

Mount Vernon, Virginia

Serpent Mound, Ohio

Ellis Island, New Jersey and New York

Chicago Early Skyscrapers, Illinois, including: [Other Properties May Be Added in the Course of Developing a Nomination]

—Rookery

—Auditorium Building

—Monadnock Building

—Ludington Building

—Marquette Building

—Old Colony Building

—Schlesinger & Mayer (Carson, Pirie Scott) Department Store

—Second Leiter Building

—Fisher Building

Central Park, New York

Brooklyn Bridge, New York

Moravian Bethlehem District, Pennsylvania

Natural Sites

National Marine Sanctuary of American Samoa (Formerly Fagatele Bay National Marine Sanctuary, American Samoa)

Okefenokee National Wildlife Refuge, Georgia

Petrified Forest National Park, Arizona

White Sands National Monument, New Mexico

Marianas Trench National Monument, U.S. Territory, Commonwealth of the Northern Mariana Islands, Guam

Central California Current, California, Including

—Cordell Bank National Marine Sanctuary

—Monterey Bay National Marine Sanctuary

—Greater Farallones National Marine Sanctuary

—Farallon Islands National Wildlife Refuge

—Point Reyes National Seashore

—Golden Gate National Recreation Area

Big Bend National Park, Texas

Pacific Remote Islands National Monument, U.S. Territorial Waters

Notes: (1) A nomination for the Hopewell Ceremonial Earthworks was authorized for preparation in May 2018 by the Department of the Interior and is now under development. (2) The Department has requested and is now awaiting advice from the International Council on Monuments and Sites (ICOMOS) on adding other properties to the proposal for the Civil Rights Movement Sites and its overall justification. (3) The government of the German state of Saxony is proposing an extension to the World Heritage listing of Christiansfeld, a Moravian Church Settlement in Denmark, that would include Herrnhut in Germany, the Moravian Bethlehem District in Bethlehem, Pennsylvania, and potentially other historic Moravian settlements in other countries.

Request for Public Comments

Comments on whether to authorize the preparation of a World Heritage nomination for any of the properties on the Tentative List should address the readiness and ability of the property owner(s) to prepare a satisfactory nomination document. Suggestions for additions to the Tentative List not previously submitted must address: (i) How the property(ies) would meet the World Heritage nomination criteria, requirements for authenticity, integrity, legal protection and management. Information on these criteria and requirements can be found on the website noted in the FOR FURTHER INFORMATION CONTACT section of this notice; and (ii) The U.S. legal prerequisites that include the agreement of all property owners to the nomination of their property, an official determination that the property is nationally significant (such as by designation as a National Historic or National Natural Landmark), and effective legal protection. All previous suggestions for the Tentative List made during previous comment periods or otherwise submitted since 2008, have been retained and considered and should not be resubmitted at this time.

Selection and Nomination

All public comments will be summarized and provided to Department of the Interior officials, who will obtain the advice of the Federal Interagency Panel for World Heritage before making any selection of properties for authorization to prepare a World Heritage nomination. The selection may include relevant factors, such as the likelihood of being able to complete a satisfactory nomination, and the fact that the United States is currently prohibited by law from providing any funding to UNESCO, including UNESCO and World Heritage member dues. Once authorized, the property owners may prepare a draft nomination.

The Department does not have a fixed schedule for completing or submitting World Heritage nominations. No more than one nomination from any country may be submitted per year, per the UNESCO World Heritage Operational Guidelines. Completed nominations, if approved by the Department for submission, may be submitted to the UNESCO World Heritage Centre by February 1 of any year.

Public Availability of Comments

All comments will be a matter of public record. Before including an address, phone number, email address, or other personal identifying information in a comment, members of the public should be aware that the entire comment—including personal identifying information—may be made public at any time. While commenters can request that personal identifying information be withheld from public review, it may not be possible to comply with this request.

Authority: 54 U.S.C. 307101; 36 CFR part 73.

George Wallace,
Assistant Secretary for Fish and Wildlife and Parks.

[FR Doc. 2021-00310 Filed 1-8-21; 8:45 am]

BILLING CODE 4312-52-P